DEPARTMENT OF COMMERCE

International Trade Administration

[C-533-858]

Oil Country Tubular Goods From India: Rescission of Countervailing Duty Administrative Review; 2019

AGENCY: Enforcement and Compliance, International Trade Administration, Department of Commerce.

SUMMARY: The Department of Commerce (Commerce) is rescinding the administrative review of the countervailing duty (CVD) order on oil country tubular goods (OCTG) from India, based on the timely withdrawal of the requests for review. The period of review (POR) is January 1, 2019, through December 31, 2019.

DATES: Applicable February 12, 2021.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On September 1, 2020, Commerce published a notice of opportunity to request an administrative review of the CVD order on OCTG from India for the period January 1, 2019, through December 31, 2019.¹ On September 30, 2020, the domestic interested parties ² filed a request for administrative review of the 45 Indian exporters/producers of, in accordance with section 751(a) of the Tariff Act of 1930, as amended (the Act), and 19 CFR 351.213(b).³ On October 30, 2020, pursuant to this request, and in accordance with 19 CFR 351.221(c)(1)(i), Commerce published a notice initiating an administrative review of the CVD order on OCTG from India with respect to all 45 companies for which a review was requested.⁴ Between November 27, 2020, through December 9, 2020, six companies submitted no-shipment letters.⁵ On January 11, 2021, Commerce released entry data from U.S. Customs and Border Protection (CBP) for respondent selection and provided parties an opportunity to comment on this CBP data.⁶ On January 14, 2021, the domestic interested parties filed a letter withdrawing their request for an administrative review of all 45 companies upon which this administrative review was initiated.⁷

¹ See Antidumping or Countervailing Duty Order, Finding, or Suspended Investigation, Opportunity to Request Administrative Review, 85 FR 54349 (September 1, 2020).

² The domestic interested parties are: United States Steel Corporation, Maverick Tube Corporation, Tenaris Bay City, Inc., and IPSCO Tubulars Inc.

³ See Domestic Interested Parties' Letter, “Oil Country Tubular Goods from India: Request for Administrative Review of Countervailing Duty Order,” dated September 20, 2020.

⁴ See Initiation of Antidumping and Countervailing Duty Administrative Reviews, 85 FR 68840 (October 30, 2020).

⁵ See Garg Tube Export LLP's Letter, “Oil Country Tubular Goods from India: Statement of no sales, entries, or shipment of subject merchandise during the Period of Review,” dated November 27, 2020; Rakshita Overseas' Letter, “Oil Country Tubular Good from India: Statement of no sales, entries, or shipment of subject merchandise during the Period of Review,” dated November 27, 2020; Jindal Saw Ltd.'s Letter, “Oil Country Tubular Goods from India: Statement of no sales, entries or shipment of subject merchandise during the Period of Review,” dated November 27, 2020; GVN Fuels Limited, Maharashtra Seamless Limited, and Jindal Pipe Limited's Letter, “Oil Country Tubular Goods from India: Statement of no sales, entries or shipment of subject merchandise during the Period of Review,” dated November 27, 2020; Goodluck India Limited's Letter, “Oil Country Tubular Goods from India: Statement of no sales, entries or shipment of subject merchandise during the Period of Review,” dated November 28, 2020; and Pennar Industries Limited's Letter, “Oil Country Tubular Goods from India: Statement of no sales, entries or shipment of subject merchandise during the Period of Review,” dated November 27, 2020 (filed on December 9, 2020).

⁶ See Memorandum, “Administrative Review of the Countervailing Duty Order on Oil Country Tubular Goods from India: Release of U.S. Customs Entry Data for Respondent Selection,” dated January 11, 2021.

⁷ See Domestic Interested Parties' Letter, “Oil Country Tubular Goods from India: Withdrawal of Request for Administrative Review of Countervailing Duty Order,” dated January 14, 2021.

Rescission of Review

Pursuant to 19 CFR 351.213(d)(1), Commerce will rescind an administrative review, in whole or in part, if a party or parties that requested a review withdraws the request within 90 days of the publication of the notice of the initiation of the requested review. The domestic interested parties timely withdrew their request for all 45 companies identified in their review request. No other parties requested an administrative review of the order. Therefore, in accordance with 19 CFR 351.213(d)(1), we are rescinding this review in its entirety.

Assessment

Commerce will instruct CBP to assess countervailing duties on all appropriate entries of OCTG from India. Countervailing duties shall be assessed at rates equal to the cash deposit of estimated countervailing duties required at the time of entry, or withdrawal from warehouse, for consumption, in accordance with 19 CFR 351.212(c)(1)(i). Commerce intends to issue assessment instructions to CBP no earlier than 35 days after the date of publication of this notice in the Federal Register.

Notification Regarding Administrative Protective Order

This notice also serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation, which is subject to sanction.

Notification to Interested Parties

This notice is issued and published in accordance with sections 751(a)(1) and 777(i)(1) of the Act, and 19 CFR 351.213(d)(4).

Dated: February 8, 2021.
James Maeder,
Deputy Assistant Secretary for Antidumping and Countervailing Duty Operations.

[FR Doc. 2021-02883 Filed 2-11-21; 8:45 am]

BILLING CODE 3510-DS-P